DEPARTMENT OF TRANSPORTATION

Federal Aviation Administration

14 CFR Part 97

[Docket No. 30836; Amdt. No. 3473]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 16, 2012. The compliance date for each SIAP, associated Takeoff Minimums, and ODP is specified in the amendatory provisions.

The incorporation by reference of certain publications listed in the regulations is approved by the Director of the Federal Register as of April 16, 2012.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1.FAA Public Inquiry Center (APA-200), FAA Headquarters Building, 800 Independence Avenue SW., Washington, DC 20591; or

2.The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore— (1) Is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on March 30, 2012.
John McGraw,
Deputy Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

§§ 97.23, 97.25, 97.27, 97.29, 97.31, 97.33, 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC Date | Subject
3-May-12 | IA | Sioux City | Sioux Gateway/Col. Bud Day Field | 2/8304 | 3/20/12 | This NOTAM, published in TL 12-09, is hereby rescinded in its entirety.
3-May-12 | CA | San Francisco | San Francisco Intl | 2/1235 | 3/20/12 | RNAV (RNP) Y RWY 28R, Orig-C
3-May-12 | FL | Miami | Miami Intl | 2/2210 | 3/19/12 | RNAV (GPS) Z RWY 26L, Amdt 1
3-May-12 | MS | Jackson | Jackson-Evers Intl | 2/2509 | 3/19/12 | RNAV (GPS) RWY 16R, Amdt 1
3-May-12 | MS | Jackson | Jackson-Evers Intl | 2/2511 | 3/19/12 | RNAV (GPS) RWY 34R, Amdt 1
3-May-12 | MS | Jackson | Jackson-Evers Intl | 2/2513 | 3/19/12 | ILS OR LOC RWY 34L, Amdt 5A
3-May-12 | MS | Jackson | Jackson-Evers Intl | 2/2518 | 3/19/12 | RNAV (GPS) RWY 34L, Amdt 2
3-May-12 | CA | Palo Alto | Palo Alto Arpt of Santa Clara Co. | 2/3358 | 3/19/12 | Takeoff Minimums and Obstacle DP, Orig
3-May-12 | SC | Allendale | Allendale County | 2/3399 | 3/20/12 | GPS RWY 17, Orig-B
3-May-12 | SC | Allendale | Allendale County | 2/3400 | 3/20/12 | GPS RWY 35, Amdt 1A
3-May-12 | SC | Allendale | Allendale County | 2/3402 | 3/20/12 | VOR OR GPS A, Amdt 5A
3-May-12 | GA | Atlanta | Fulton County Airport-Brown Field | 2/3814 | 3/19/12 | NDB RWY 8, Amdt 3A
3-May-12 | AL | Huntsville | Huntsville Intl—Carl T Jones Field | 2/4557 | 3/19/12 | ILS OR LOC RWY 18R, ILS RWY 18R (CAT II), Amdt 24B
3-May-12 | GA | Atlanta | Atlanta/Hartsfield-Jackson Atlanta Intl | 2/4558 | 3/19/12 | ILS OR LOC RWY 9R, ILS RWY 9R (CAT II), ILS RWY 9R (CAT III), Amdt 17C
3-May-12 | GA | Atlanta | Atlanta/Hartsfield-Jackson Atlanta Intl | 2/4559 | 3/19/12 | ILS PRM RWY 9R (Sim. Close Parallel), ILS PRM RWY 9R (CAT II) (Sim. Close Parallel), ILS PRM RWY 9R (CAT III) (Sim. Close Parallel), Orig-B
3-May-12 | IL | Marion | Williamson County Rgnl | 2/4638 | 3/19/12 | RNAV (GPS) RWY 20, Orig-A
3-May-12 | IL | Marion | Williamson County Rgnl | 2/4639 | 3/19/12 | NDB RWY 20, Amdt 10A
3-May-12 | IL | Marion | Williamson County Rgnl | 2/4640 | 3/19/12 | VOR RWY 20, Amdt 17A
3-May-12 | IL | Marion | Williamson County Rgnl | 2/4641 | 3/19/12 | VOR RWY 2, Amdt 13A
3-May-12 | IL | Marion | Williamson County Rgnl | 2/4642 | 3/19/12 | RNAV (GPS) RWY 2, Orig-A
3-May-12 | NC | Burlington | Burlington-Alamance Rgnl | 2/5508 | 3/9/12 | ILS OR LOC/NDB RWY 6, Amdt 1
3-May-12 | WY | Cheyenne | Cheyenne Rgnl/Jerry Olson Field | 2/5840 | 3/20/12 | RADAR-1, Amdt 1B
3-May-12 | AZ | Phoenix | Phoenix Sky Harbor Intl | 2/5854 | 3/22/12 | ILS OR LOC RWY 8, Orig-C
3-May-12 | AZ | Phoenix | Phoenix Sky Harbor Intl | 2/5857 | 3/22/12 | ILS OR LOC RWY 26, Orig-D
3-May-12 | DC | Washington | Washington Dulles Intl | 2/6475 | 3/19/12 | ILS OR LOC RWY 1R, Amdt 24A
3-May-12 | IA | Sioux City | Sioux Gateway/Col. Bud Day Field | 2/6534 | 3/20/12 | NDB RWY 13, Amdt 15C
3-May-12 | FL | Miami | Miami Intl | 2/6842 | 3/19/12 | Takeoff Minimums and Obstacle DP, Amdt 17
3-May-12 | DC | Washington | Washington Dulles Intl | 2/7130 | 3/19/12 | ILS RWY 1L (CAT II), Amdt 1A
3-May-12 | DC | Washington | Washington Dulles Intl | 2/7131 | 3/19/12 | ILS OR LOC/DME RWY 1L, Amdt 1A
3-May-12 | DC | Washington | Washington Dulles Intl | 2/7136 | 3/19/12 | ILS RWY 1L (CAT III), Amdt 1A
3-May-12 | TN | Waverly | Humphreys County | 2/8155 | 3/20/12 | NDB RWY 21, Amdt 3B
3-May-12 | GA | Athens | Athens/Ben Epps | 2/9279 | 3/19/12 | RNAV (GPS) RWY 2, Orig
3-May-12 | GA | Athens | Athens/Ben Epps | 2/9283 | 3/19/12 | ILS OR LOC/DME RWY 27, Amdt 1
3-May-12 | GA | Athens | Athens/Ben Epps | 2/9284 | 3/19/12 | NDB RWY 27, Amdt 1
3-May-12 | GA | Athens | Athens/Ben Epps | 2/9285 | 3/19/12 | RNAV (GPS) RWY 20, Orig
3-May-12 | GA | Athens | Athens/Ben Epps | 2/9286 | 3/19/12 | RNAV (GPS) RWY 27, Orig
3-May-12 | GA | Athens | Athens/Ben Epps | 2/9287 | 3/19/12 | VOR RWY 2, Amdt 11A
3-May-12 | GA | Athens | Athens/Ben Epps | 2/9290 | 3/19/12 | RNAV (GPS) RWY 9, Orig
3-May-12 | GA | Athens | Athens/Ben Epps | 2/9291 | 3/19/12 | VOR RWY 27, Amdt 12

[FR Doc. 2012-8967 Filed 4-13-12; 8:45 am]

BILLING CODE 4910-13-P